DEPARTMENT OF LABOR

Office of Workers' Compensation Programs

[OMB Control No. 1240-0053]

Proposed Extension Without Change of a Currently Approved Collection; Request for Electronic Service Orders—Waiver of Certified Mail Requirement (LS-801, LS-802)

AGENCY: Office of Workers' Compensation Programs, Division of Longshore and Harbor Workers' Compensation (DLHWC), Department of Labor.

ACTION: Request for public comments.

SUMMARY: The Department of Labor (DOL), as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, DLHWC is soliciting comments on the information collection for “Waiver of Service by Registered or Certified Mail for Employers and/or Insurance Carriers” (LS-801) and “Waiver of Service by Registered or Certified Mail for Claimants and Authorized Representatives” (LS-802).

DATES: Consideration will be given to all written comments received by May 6, 2025.

ADDRESSES: You may submit comment as follows. Please note that late, untimely filed comments will not be considered.

• Federal eRulemaking Portal: https://www.regulations.gov. Follow the instructions for submitting comments for WCPO-2025-0001. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-DLHWC, Office of Workers' Compensation Programs, 200 Constitution Avenue NW, Room S-3323, Washington, DC 20210.

• DLHWC will post your comment as well as any attachments, except for information submitted and marked as confidential, in the docket at https://www.regulations.gov.

FOR FURTHER INFORMATION CONTACT: Contact Anjanette Suggs, Office of Workers' Compensation Programs, Division of Federal Employees', Longshore and Harbor Workers' Compensation, OWCP/DFELHWC at suggs.anjanette@dol.gov (email); or (202) 354-9660.

SUPPLEMENTARY INFORMATION:

I. Background

The Office of Workers' Compensation Programs administers the Longshore and Harbor Workers' Compensation Act (LHWCA) (33 U.S.C. 901 et seq.), http://www.dol.gov/owcp/dlhwc/lhwca.htm; and its extensions: the Non-appropriated Fund Instrumentalities Act, http://www.dol.gov/owcp/dlhwc/nfia.htm; the Outer Continental Shelf Lands Act, http://www.dol.gov/owcp/dlhwc/ocsla.htm and the Defense Base Act, http://www.dol.gov/owcp/dlhwc/dba.htm. These Acts provide compensation benefits to injured workers. The Secretary of Labor is authorized to make rules and regulations to administer the Act and its extensions. 33 U.S.C. 939.

The Longshore and Harbor Workers' Compensation Act (LHWCA), at 33 U.S.C. 919(e), requires that any order rejecting or making an LHWCA award (a compensation order) be filed in the appropriate district director's office of the Office of Workers' Compensation Programs (OWCP), and that copies be sent by registered or certified mail to the claimant and the employer. The implementing regulations at 20 CFR 702.349 require the district director to serve the compensation order on the parties and their representatives by certified mail. The compensation order notifies Employers/Carriers that payment of LHWCA compensation is due within 10 days of filing. If compensation is not paid within that time frame, an additional 20% in compensation must be paid [see LHWCA sec. 914(f)].

Given the short time frame within which Employers/Carriers must issue payments under compensation orders, many industry stakeholders prefer email over certified mail because it is a more expedient method. Thus, the Department's rules allow parties and their representatives to waive their statutory and regulatory rights to receive compensation orders by registered or certified mail and instead to receive them by email. See 20 CFR 702.349(b). Because this waiver is of a statutory and regulatory right, it is formalized in a uniform manner in a clear writing that reflects a knowing relinquishment of rights.

II. Desired Focus of Comments

OWCP is soliciting comments concerning the proposed information collection related to the Request for Electronic Service Orders—Waiver of Certified Mail Requirement. OWCP/DLHWC is particularly interested in comments that:

• Evaluate whether the collection of information is necessary for the proper performance of the functions of the Agency, including whether the information has practical utility;

• Evaluate the accuracy of OWCP/DLHWC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP located at 200 Constitution Avenue NW, Room S-3323, Washington, DC 20210. Questions about the information collection requirements may be directed to the person listed in the FOR FURTHER INFORMATION section of this notice.

III. Current Actions

This information collection request concerns Request for Electronic Service of Orders—Waiver of Certified Mail Requirement. OWCP has updated the data with respect to the number of respondents, responses, burden hours, and burden costs supporting this information collection request from the previous information collection request.

Type of Review: Extension, without change, of a currently approved collection.

Agency: Office of Workers' Compensation Programs.

OMB Number: 1240-0053.

Affected Public: Private sector.

Number of Respondents: 62,881.

Frequency: On occasion.

Number of Responses: 62,881.

Annual Burden Hours: 5,240.

Annual Respondent or Recordkeeper Cost: $0.

OWCP Forms: Waiver of Service by Registered or Certified Mail for Employers and/or Insurance Carriers (LS-801) and Waiver of Service by Registered or Certified Mail for Claimants and Authorized Representatives (LS-802).

Comments submitted in response to this notice will be summarized in the request for Office of Management and Budget approval of the proposed information collection request; they will become a matter of public record and will be available at https://www.reginfo.gov.

Authority: 44 U.S.C. 3506(C)(2)(A).

Anjanette Suggs,
Agency Clearance Officer.

[FR Doc. 2025-03680 Filed 3-6-25; 8:45 am]

BILLING CODE P